DEPARTMENT OF COMMERCE

National Oceanic and Atmospheric Administration

[RTID 0648-XF344]

Pacific Fishery Management Council; Public Meeting

AGENCY: National Marine Fisheries Service (NMFS), National Oceanic and Atmospheric Administration (NOAA), Commerce.

ACTION: Notice of public meeting.

SUMMARY: The Pacific Fishery Management Council (Pacific Council) will hold an online meeting that is open to the public. The purpose of the meeting is to take final action on the 2026 Pacific halibut Catch Sharing Plan and annual regulations and may also include groundfish inseason actions that were unable to be completed at the Pacific Council's November 2025 meeting.

DATES: The online meeting will be held Thursday, December 18, 2025, from 1 p.m. Pacific Time until business for the day has been completed.

ADDRESSES: This meeting will be held online. Specific meeting information, including directions on how to join the meeting and system requirements will be provided in the meeting announcement on the Pacific Council's website (see https://www.pcouncil.org). You may send an email to Mr. Kris Kleinschmidt (kris.kleinschmidt@pcouncil.org) or contact him at (503) 820-2412 for technical assistance.

Council address: Pacific Fishery Management Council, 7700 NE Ambassador Place, Suite 101, Portland, OR 97220-1384.

FOR FURTHER INFORMATION CONTACT: Merrick Burden, Executive Director, Pacific Council; telephone: (503) 820-2280.

SUPPLEMENTARY INFORMATION: The purpose of the meeting is to take final action on the 2026 Pacific halibut Catch Sharing Plan and may also include groundfish inseason actions that were unable to be completed at the Pacific Council's November 2025 meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@pcouncil.org; (503) 820-2412) at least 10 days prior to the meeting date.

Authority: 16 U.S.C. 1801 et seq.

Dated: December 2, 2025.
Rey Israel Marquez,
Acting Deputy Director, Office of Sustainable Fisheries, National Marine Fisheries Service.

[FR Doc. 2025-21919 Filed 12-3-25; 8:45 am]

BILLING CODE 3510-22-P